NUCLEAR REGULATORY COMMISSION

[Docket No. 50-395]

South Carolina Electric & Gas Company, Virgil C. Summer Nuclear Station; Notice of Receipt of Application for Renewal of Facility Operating License No. NPF-12 for an Additional 20-Year Period

On August 6, 2002, the U.S. Nuclear Regulatory Commission (NRC) received, by letter dated August 6, 2002, an application from the South Carolina Electric & Gas Company, filed pursuant to section 104b of the Atomic Energy Act of 1954, as amended, and 10 CFR part 54, which would authorize the applicant to operate the Virgil C. Summer Nuclear Station for an additional 20-year period. The current operating license for the Virgil C. Summer Nuclear Station expires on August 6, 2022. The Virgil C. Summer Nuclear Station is a pressurized water reactor designed by Westinghouse Electric Corporation and is located in Fairfield County, South Carolina. The acceptability of the tendered application for docketing and other matters, including an opportunity to request a hearing, will be the subject of a subsequent Federal Register notice.

Copies of the application are available for public inspection at the Commission's Public Document Room (PDR), located at One White Flint North, 11555 Rockville Pike (first floor), Rockville, Maryland, or electronically from the Publicly Available Records (PARS) component of the NRC's Agencywide Documents Access and Management System (ADAMS). The ADAMS Public Electronic Reading Room is accessible from the NRC Web site at http://www.nrc.gov/reading-rm/adams.html. In addition, the application is available on the NRC web page at http://www.nrc.gov/reactors/operating/licensing/renewal/applications.html, while the application is under review. Persons who do not have access to ADAMS or who encounter problems in accessing the documents located in ADAMS, should contact the NRC's PDR Reference staff at 1-800-397-4209, 301-415-4737, or by e-mail to pdr@nrc.gov.

The license renewal application for the Virgil C. Summer Nuclear Station is also available to local residents at the Fairfield County Library, in Winnsboro, South Carolina, and at the Thomas Cooper Library, at the University of South Carolina in Columbia, South Carolina.

Dated at Rockville, Maryland, this 26th day of August, 2002.
For the Nuclear Regulatory Commission.
Pao-Tsin Kuo,
Program Director, License Renewal and Environmental Impacts Program, Division of Regulatory Improvement Programs, Office of Nuclear Reactor Regulation.

[FR Doc. 02-22331 Filed 8-30-02; 8:45 am]

BILLING CODE 7590-01-P